DEPARTMENT OF TRANSPORTATION

Surface Transportation Board

[STB Finance Docket No. 34027]

Public Service Company of Colorado d/b/a Xcel Energy—Acquisition Exemption—The Burlington Northern and Santa Fe Railway Company

Public Service Company of Colorado d/b/a Xcel Energy (Xcel), a noncarrier, has filed a verified notice of exemption under 49 CFR 1150.31 to acquire non-exclusive trackage rights from The Burlington Northern and Santa Fe Railway Company (BNSF) over a segment of BNSF trackage in the vicinity of Pueblo, CO. The trackage extends from a connection between BNSF and the Union Pacific Railroad Company (UP) at Pueblo Junction, at or near milepost 119.45 (BNSF's Spanish Peak Sub-division), to a connection with Xcel's Comanche Electric Generating Station (Comanche Station) spur track near Southern Junction, at milepost 124.74 (BNSF's Spanish Peak Sub-division), a distance of 5.29 miles.¹

¹ According to the verified notice, the trackage rights are to provide service to the Comanche Station and other industries that are now located and that hereafter locate along the Comanche Station spur track. The verified notice also indicates that any rail operations using the trackage rights granted to Xcel will be conducted by a third party, which, the notice states, most likely will be UP. Anticipated rail operations by a third party over BNSF's trackage is subject to the Board's approval or exemption.

The verified notice states that the parties expected to consummate the transaction on or around March 28, 2001. Counsel for Xcel has been contacted and has expressed his understanding that the earliest the transaction can be consummated is the April 6, 2001 effective date of the exemption (7 days after the exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34027 must be filed with the Surface Transportation Board, Office of the Secretary, Case Control Unit, 1925 K Street, NW., Washington, DC 20423-0001. In addition, a copy of each pleading must be served on Thomas W. Wilcox, Esq., Thompson Hine & Flory LLP, 1920 N Street, NW., Suite 800, Washington, DC 20036-1601.

Board decisions and notices are available on our website at “WWW.STB.DOT.GOV.”

Decided: April 5, 2001.
By the Board, David M. Konschnik, Director, Office of Proceedings.
Vernon A. Williams,
Secretary.

[FR Doc. 01-9239 Filed 4-12-01; 8:45 am]

BILLING CODE 4915-00-P